DEPARTMENT OF COMMERCE

International Trade Administration

[A-570-601]

Tapered Roller Bearings and Parts Thereof, Finished and Unfinished, From the People's Republic of China: Final Results of the Expedited Fourth Sunset Review of the Antidumping Duty Order

AGENCY: Enforcement and Compliance, International Trade Administration, Department of Commerce.

SUMMARY: As a result of this sunset review, the Department of Commerce (the Department) finds that revocation of the antidumping duty (AD) order on tapered roller bearings and parts thereof, finished and unfinished (TRBs) from the People's Republic of China (PRC) would be likely to lead to continuation or recurrence of dumping. The magnitude of the dumping margin likely to prevail is indicated in the “Final Results of Sunset Review” section of this notice.

DATES: Applicable November 6, 2017.

FOR FURTHER INFORMATION CONTACT: Whitley Herndon; Office II, AD/CVD Operations, Enforcement and Compliance, International Trade Administration, U.S. Department of Commerce, 1401 Constitution Avenue NW., Washington, DC 20230; telephone: (202) 482-6274.

SUPPLEMENTARY INFORMATION:

Background

On June 15, 1987, the Department published the AD order on TRBs from the PRC.¹ On July 3, 2017, the Department initiated the fourth sunset review of the AD order on TRBs from the PRC pursuant to section 751(c) of the Tariff Act of 1930, as amended (Act).² On July 10, 2017, the Department received a timely notice of intent to participate in the sunset review from the Timken Company (Timken), a domestic producer and the petitioner in the TRBs less-than-fair-value investigation, within the 15-day period specified in 19 CFR 351.218(d)(1)(i).³ On August 2, 2017, Timken filed a timely substantive response with the Department pursuant to 19 CFR 351.218(d)(3)(i).⁴ The Department did not receive a substantive response from any respondent interested party. As a result, pursuant to section 751(c)(3)(B) of the Act and 19 CFR 351.218(e)(1)(ii)(C)(2), the Department conducted an expedited (120-day) sunset review of the Order.

¹ See Antidumping Duty Order; Tapered Roller Bearings and Parts Thereof, Finished or Unfinished, from the People's Republic of China, 52 FR 22667 (June 15, 1987), as amended by Tapered Roller Bearings from the People's Republic of China; Amendment to Final Determination of Sales at Less Than Fair Value and Antidumping Duty Order in Accordance With Decision Upon Remand, 55 FR 6669 (February 26, 1990) (Order).

² See Initiation of Five-Year (Sunset) Reviews, 82 FR 80844 (July 3, 2017).

³ See Timken's Letter, “Fourth Sunset Review of the Antidumping Order on Tapered Roller Bearings from China (A-570-601): Notice of Intent to Participate of the Timken Company,” dated July 10, 2017.

⁴ See Timken's Letter, “Sunset Review (4th Review) pursuant to Section 751(c) of the Tariff Act of 1930 of the antidumping duty order on Tapered Roller Bearings from China (Case No. A-570-601) Substantive Response to the Notice of Initiation,” dated August 2, 2017.

Scope of the Order

The merchandise covered by the Order includes tapered roller bearings and parts thereof. The subject merchandise is currently classifiable under Harmonized Tariff Schedule of the United States (HTSUS) subheadings: 8482.20.00, 8482.91.00.50, 8482.99.15, 8482.99.45, 8483.20.40, 8483.20.80, 8483.30.80, 8483.90.20, 8483.90.30, 8483.90.80, 8708.70.6060, 8708.99.2300, 8708.99.4850, 8708.99.6890, 8708.99.8115, and 8708.99.8180. The HTSUS subheadings are provided for convenience and customs purposes only; the written description of the scope of the order is dispositive.⁵

⁵ For a full description of the scope of the AD Order, see Memorandum, “Fourth Expedited Sunset Review of the Antidumping Duty Order on Tapered Roller Bearings from the People's Republic of China,” dated concurrently with, and adopted by, this notice (Decision Memorandum).

Analysis of Comments Received

All issues raised in this sunset review are addressed in the Decision Memorandum. The issues discussed in the Decision Memorandum include the likelihood of continuation or recurrence of dumping and the magnitude of the dumping margin likely to prevail if the Order were to be revoked.

The Decision Memorandum is a public document and is on file electronically via Enforcement and Compliance's Antidumping and Countervailing Duty Centralized Electronic Service System (ACCESS). ACCESS is available to registered users at http://access.trade.gov and in the Central Records Unit, Room B8024 of the main Department of Commerce building. In addition, a complete version of the Decision Memorandum can be accessed at http://enforcement.trade.gov/frn/. The signed Decision Memorandum and the electronic version of the Decision Memorandum are identical in content.

Final Results of Sunset Review

Pursuant to sections 751(c)(1) and 752(c)(1) and (3) of the Act, the Department determines that revocation of the Order would likely lead to continuation or recurrence of dumping, and that the magnitude of the margin of dumping likely to prevail if the Order is revoked would be up to 60.25 percent.

Notification Regarding Administrative Protective Order

This notice also serves as the only reminder to parties subject to administrative protective order (APO) of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing these results and notice in accordance with sections 751(c), 752, and 777(i)(1) of the Act and 19 CFR 351.281 and 19 CFR 351.221(c)(5)(ii).

Dated: October 31, 2017.
Gary Taverman,
Deputy Assistant Secretary for Antidumping and Countervailing Duty Operations, performing the non-exclusive functions and duties of the Assistant Secretary for Enforcement and Compliance.

[FR Doc. 2017-24075 Filed 11-3-17; 8:45 am]

BILLING CODE 3510-DS-P